DEPARTMENT OF THE INTERIOR

Fish and Wildlife Service

AGENCY: Fish and Wildlife Service, DOI.

ACTION: Notice of intent to Prepare comprehensive conservation plans, conduct Wilderness/Wild and Scenic River Reviews, and develop compatibility determinations for Cedar Island and Pea Island National Wildlife Refuges in North Carolina.

SUMMARY: This notice advises the public that the Fish and Wildlife Service, Southeast Region, intends to gather information necessary to prepare Comprehensive Conservation Plans for the management of the above stated refuges, while at the same time conduct Wilderness/Wild and Scenic river Reviews, and develop Compatibility Determinations for each refuge. The notice is being furnished in compliance with the Service's Comprehensive Conservation Planning Policy and the National Environmental Policy Act and implementing regulations.

Public Scoping meetings will be held for these refuges as the planning processes are initiated. An announcement of the meeting dates will appear in the Federal Register.

DATES: Written comments should be received on or before July 11, 2000.

ADDRESSES: Comments and requests for information concerning these refuges may be addressed to: D.A. Brown, M.S., P.W.S., 1106 West Queen Street, P.O. Box 329, Edenton, North Carolina 27932, (252) 482-2364.

If you wish to comment, you may submit your comments by any one of several methods. You may mail comments to the above address. You may also comment via the Internet to the following address: D_A_Brown@fws.gov. Please submit Internet comments as an ASCII file avoiding the use of special characters and any form of encryption. Please also include your name and return address in your Internet message. If you do not receive a confirmation from the system that we have received your Internet message, contact D.A. Brown directly at the above address. Finally, you may hand-deliver comments to Mr. Brown at 1106 West Queen Street, Edenton, North Carolina. Our practice is to make comments, including names and home addresses of respondents, available for public review during regular business hours. Individual respondents may request that we withhold their home address from the rulemaking record, which we will honor to the extent allowable by law. There also may be circumstances in which we would withhold from the rulemaking record a respondents identity, as allowable by law. If you wish us to withhold your name and/or address, you must state this prominently at the beginning of your comment. However, we will not consider anonymous comments. We will make all submissions from organizations or businesses, and from individuals identifying themselves as representatives or officials of organizations or businesses, available for public inspection in their entirety.

SUPPLEMENTARY INFORMATION: It is the policy of the Fish and Wildlife Service to have all lands within the National Wildlife Refuge System managed in accordance with an approved Comprehensive Conservation Plan. The plan guides management decisions and identifies the goals, objectives, and strategies for achieving refuge purposes. Public input into this planning process is encouraged. The plan will provide other agencies and the public with a clear understanding of the desired conditions of the refuge and how the Service will implement the management strategies. Some of the issues to be addressed in these plans include the following:

(a) Public use management;

(b) Habitat management;

(c) Wildlife population management; and

(d) Cultural resource identification and protection.

Alternatives that address the issues and management strategies associated with these topics will be included in the environmental documents.

Pre-planning for both Cedar Island and Pea Island National Wildlife Refuges began in January 2000. Pea Island National Wildlife Refuge was established by Presidential Executive Order 7864 in April 1938, as a refuge and breeding ground for migratory birds and other wildlife; and Cedar Island National Wildlife Refuge was authorized by the Migratory Bird Conservation Act in August 1964, for use as an inviolate sanctuary, or for other management purposes, for migratory birds.

Dated: May 5, 2000.
Judy L. Jones,
Acting Regional Director.

[FR Doc. 00-11940 Filed 5-11-00; 8:45 am]

BILLING CODE 4310-55-M